Title 3—

The President

Proclamation 9595 of April 28, 2017

Asian American and Pacific Islander Heritage Month, 2017

By the President of the United States of America

A Proclamation

This month, we celebrate Asian American and Pacific Islander Heritage Month, and we recognize the achievements and contributions of Asian Americans and Pacific Islanders that enrich our Nation.

Asian Americans and Pacific Islanders have distinguished themselves in the arts, literature, and sports. They are leading researchers in science, medicine, and technology; dedicated teachers to our Nation's children; innovative farmers and ranchers; and distinguished lawyers and government leaders.

Dr. Sammy Lee, a Korean American who passed away last December, exemplified the spirit of this month. Dr. Lee was the first Asian American man to win an Olympic gold medal, becoming a platform diving champion at the 1948 London Olympics only 1 year after graduating from medical school. To fulfill his dreams, Dr. Lee overcame several obstacles, including his local childhood pool's policy of opening to minorities only once per week. Later in life he was subject to housing discrimination (even after 8 years of military service). Dr. Lee nevertheless tirelessly served his country and community, including by representing the United States at the Olympic Games, on behalf of several Presidents.

Katherine Sui Fun Cheung also embodied the spirit of this month. In 1932, she became the first Chinese American woman to earn a pilot license. At the time, only about 1 percent of pilots in the United States were women. As a member of The Ninety-Nines, an organization of women pilots, she paved the way for thousands of women to take to the skies.

There are more than 20 million Asian Americans and Pacific Islanders in the United States. Each day, through their actions, they make America more vibrant, more prosperous, and more secure. Our Nation is particularly grateful to the many Asian Americans and Pacific Islanders who have served and are currently serving in our Armed Forces, protecting the Nation, and promoting freedom and peace around the world.

NOW, THEREFORE, I, DONALD J. TRUMP, President of the United States of America, by virtue of the authority vested in me by the Constitution and the laws of the United States, do hereby proclaim May 2017 as Asian American and Pacific Islander Heritage Month. The Congress, by Public Law 102-450, as amended, has also designated the month of May each year as “Asian/Pacific American Heritage Month.” I encourage all Americans to learn more about our Asian American, Native Hawaiian, and Pacific Islander heritage, and to observe this month with appropriate programs and activities.

IN WITNESS WHEREOF, I have hereunto set my hand this twenty-eighth day of April, in the year of our Lord two thousand seventeen, and of the Independence of the United States of America the two hundred and forty-first.

[FR Doc. 2017-09073

Filed 5-2-17; 11:15 am]

Billing code 3295-F7-P